ENVIRONMENTAL PROTECTION AGENCY

[OPP-2002-0169; FRL-7274-2]

Fenamiphos; Notice of Receipt of Request to Voluntarily Cancel All Product Registrations

AGENCY: Environmental Protection Agency (EPA).

ACTION: Notice.

SUMMARY: In accordance with section 6(f) of the Federal Insecticide, Fungicide, and Rodenticide Act (FIFRA), as amended, EPA is issuing a notice of receipt of request from the sole registrant, Bayer Corporation, to voluntarily cancel all their registrations for products containing fenamiphos, effective as of May 31, 2007. The aforementioned registrant has requested voluntary cancellation of their fenamiphos product registrations and has requested that EPA waive the 180-day comment period. In light of this request, EPA is granting the request to waive the 180-day comment period and is providing a 30-day public comment period before taking action on the requested cancellation. EPA intends to grant the requested registration cancellation at the close of the comment period, effective as of May 31, 2007.

DATED: Comments on the requested registration cancellations must be submitted to the address provided below and identified by docket ID number OPP-2002-0169. Comments must be received on or before October 28, 2002.

ADDRESSES: Comments may be submitted by mail, electronically, or in person. Please follow the detailed instructions for each method as provided in Unit I. of the SUPPLEMENTARY INFORMATION section below. To ensure proper receipt by EPA, it is imperative that you identify docket ID number OPP-2002-0169 in the subject line on the first page of your response.

FOR FURTHER INFORMATION CONTACT: Tawanda Spears, Special Review and Reregistration Division (7508C), Office of Pesticide Programs, Environmental Protection Agency, 1200 Pennsylvania Ave., NW., Washington, DC 20460; telephone number: (703) 308-8050; e-mail address: spears.tawanda@epa.gov.

SUPPLEMENTARY INFORMATION:

I. General Information

A. Does this Action Apply to Me?

This action is directed to the public in general, and may be of interest if you manufacture, sell, distribute, or use fenamiphos products. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information about fenamiphos, go directly to the Home Page for the Office of Pesticide Programs at http://www.epa.gov/pesticides/, and select “reregistration eligibility (REDs)” under “Reregistration and Special Review,” and then look up the entry for fenamiphos under letter “F.”

2. In person. The Agency has established an official record for this action under docket ID number OPP-2002-0169. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket ID number OPP-2002-0169 in the subject line on the first page of your response.

1. By mail. Submit your comments to: Public Information and Records Integrity Branch (PIRIB), Information Resources and Services Division (7502C), Office of Pesticide Programs (OPP), U.S. Environmental Protection Agency, 1200 Pennsylvania Ave., NW., Washington, DC 20460.

2. In person or by courier. Deliver your comments to: Public Information and Records Integrity Branch (PIRIB), Information Resources and Services Division (7502C), Office of Pesticide Programs (OPP), U.S. Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0/9.0 or ASCII file format. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket ID number assigned to this action in the subject line on the first page of your response. You may also provide the name, date, and Federal Register citation.

II. Background

A. Cancellations

EPA is publishing this notice in response to the registrant's request to cancel all their registrations for products containing fenamiphos, effective as of May 31, 2007. Please refer to the table below for specific product registrations that are subject to cancellation. EPA assessed the risk associated with the use of fenamiphos pesticide products and determined additional data needs and/or mitigation measures were necessary, where applicable, to support the continued use of fenamiphos products. Consequently, Bayer Corporation, the sole registrant of fenamiphos, elected to request voluntary cancellation of all their fenamiphos product registrations. Bayer noted its decision was predicated largely on the limited use of fenamiphos, relative to the expenses associated with supporting the chemical. In conjunction with the request for voluntary cancellation, Bayer Corporation has also agreed to amend their existing fenamiphos product registrations and implement interim risk mitigation measures. EPA intends to accept the registrant's request barring adverse comments received during the 30-day public comment period.

Pursuant to section 6(f)(1)(A) of FIFRA, Bayer Corporation, 8400 Hawthorne Rd., P.O. Box 4913, Kansas City, MO 64120-0013 has submitted a request to cancel their existing manufacturing and end-use product registrations containing fenamiphos, effective as of May 31, 2007. The product registrations, for which cancellations were requested, are identified in the following table:

Fenamiphos Products | EPA Registrations
Nemacur Technical-Insecticide | 3125-269
Nemacur Concentrate Nematicide-Insecticide | 3125-333
Nemacur 3 | 3125-283
Nemacur 15% Granular | 3125-283
Nemacur 10% Turf and Ornamental Nematicide | 3125-237

B. Amendments

In addition to the request to cancel all of their fenamiphos product registrations, Bayer has also agreed to amend their existing fenamiphos product registrations to: (1) Prohibit all use and formulation for use on extremely vulnerable soils after May 31, 2005; (2) cap production at 500,000 pounds for fenamiphos manufacturing-use products used in the United States for the year ending May 31, 2003; and (3) cap production for each subsequent year at 20% of the previous year's production during the 5-year phase-out period. Lastly, Bayer has submitted revised labels to the Agency to implement the risk mitigation measures and changes to the product labels identified in the fenamiphos IRED document (i.e., establishing seasonal maximum application rates and reducing current rates).

III. Proposed Existing Stocks and Import Tolerances Provisions

A. Existing Stocks

Bayer has requested voluntary cancellation of the fenamiphos registrations identified in the table above. EPA intends to grant the request for voluntary cancellation, effective as of May 31, 2007. For purposes of the cancellation order that the Agency intends to issue at the close of the comment period for this announcement, the term “existing stocks” will be defined, pursuant to EPA's existing stocks policy at 56 FR 29362, as those stocks of a registered pesticide product which are currently in the United States and which have been packaged, labeled, and released for shipment prior to the effective date of the cancellation or amendment. As of May 31, 2007, all sale and distribution by Bayer, the sole registrant, of existing stocks (manufacturing-use and end-use products), shall be prohibited. Persons other than the registrant may sell and distribute such products until May 31, 2008. Use of stocks in the channels of trade may continue until depleted, except where prohibited by the label. Any distribution, sale, or use of existing stocks after the effective date of the cancellation order that the Agency intends to issue that is not consistent with the terms of that order will be considered a violation of section 12(a)(2)(K) and/or 12(a)(1)(A) of FIFRA.

B. Import Tolerances

The registrant anticipates that commodities treated with fenamiphos may continue to be imported into the United States after the final effective date of cancellation, and after existing stocks in the United States are exhausted. As such, Bayer intends to support import tolerances for banana, citrus, grape, pineapple, and garlic.

List of Subjects

Environmental protection, Chemicals, Cancellations.

September 19, 2002.
Lois A. Rossi,
Director, Special Review and Reregistration Division, Office of Pesticide Programs.

[FR Doc. 02-24648 Filed 9-26-02; 8:45 am]

BILLING CODE 6560-50-S